DEPARTMENT OF VETERANS AFFAIRS

[OMB Control No. 2900-0013]

Agency Information Collection (Application for United States Flag for Burial Purposes): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 5, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0013” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0013.”

SUPPLEMENTARY INFORMATION: Title: Application for United States Flag for Burial Purposes, VA Form 27-2008.

OMB Control Number: 2900-0013.

Type of Review: Revision of a currently approved collection.

Abstract: VA Form 27-2008 is used for the sole purpose of gathering the necessary information to determine eligibility for issuance of a burial flag to the next-of-kin or friend of a deceased Veteran.

An agency may not conduct or sponsor, and a person is not required to respond to a collection of information unless it displays a currently valid OMB control number. The Federal Register Notice with a 60-day comment period soliciting comments on this collection of information was published on August 26, 2014, at page 50987.

Affected Public: Individuals or households.

Estimated Annual Burden: 162,500 hours.

Estimated Average Burden per Respondent: 15 minutes.

Frequency of Response: One-time.

Estimated Number of Respondents: 650,000.

Dated: December 2, 2014.
By direction of the Secretary.
Crystal Rennie,
Department Clearance Officer, Department of Veterans Affairs.

[FR Doc. 2014-28558 Filed 12-4-14; 8:45 am]

BILLING CODE 8320-01-P